DEPARTMENT OF THE INTERIOR

Fish and Wildlife Service

[FWS-R1-ES-2015-N075; FXES11120100000-156-FF01E00000]

Draft Environmental Assessment and Draft Habitat Conservation Plan for the Fender's Blue Butterfly on Private Lands in Yamhill County, Oregon; Reopening of Comment Period

AGENCY: Fish and Wildlife Service, Interior.

ACTION: Notice of availability; reopening of comment period.

SUMMARY: We, the U.S. Fish and Wildlife Service (Service), are reopening the comment period for an application from the Yamhill Soil and Water Conservation District (SWCD) for an incidental take permit (permit) under the Endangered Species Act of 1973, as amended (ESA). The permit application includes a draft Habitat Conservation Plan (HCP) addressing private land management activities within upland prairie in Yamhill County, Oregon, that may result in the incidental take of the endangered Fender's blue butterfly. The Service also announces the availability of a draft environmental assessment (EA) addressing the proposed HCP and issuance of a permit that was prepared in accordance with the National Environmental Policy Act of 1969, as amended (NEPA). We invite comments from all interested parties on the permit application, including the HCP and the EA. We are reopening the comment period to correct a technical error with the electronic email box associated with the email address provided in our original Federal Register notice. The public could send comments to the Service's email address but we were not able to retrieve the comments for review; therefore, the comments could not be considered and recognized as part of the record. If you have previously submitted comments via email, please resubmit them to the new email address in order to be considered since they were unfortunately not retrievable for consideration.

DATES: To ensure consideration, written comments must be received from interested parties no later than June 8, 2015.

ADDRESSES: To request further information or submit written comments, please use one of the following methods, and note that your information request or comments are in reference to the Yamhill SWCD HCP.

• Internet: Documents may be viewed on the Internet at http://www.fws.gov/oregonfwo/ToolsForLandowners/HabitatConservationPlans/#HCP.

• Email: YamhillSWCDcomments@fws.gov. Include “Yamhill SWCD HCP” in the subject line of the message.

• U.S. Mail: U.S. Fish and Wildlife Service, Oregon Fish and Wildlife Office, 2600 SE. 98th Ave., Suite 100, Portland, OR 97266. Include “Yamhill SWCD HCP” in the subject line of the message.

• Fax: 503-231-6195, Attn: Yamhill SWCD HCP.

• In-Person Viewing or Pickup: Documents will be available for public inspection by appointment during normal business hours at the U.S. Fish and Wildlife Service, Oregon Fish and Wildlife Office, 2600 SE. 98th Ave., Suite 100, Portland, OR.

FOR FURTHER INFORMATION CONTACT: Richard Szlemp, U.S. Fish and Wildlife Service, Oregon Fish and Wildlife Office (see ADDRESSES), telephone: 503-231-6179. If you use a telecommunications device for the deaf, please call the Federal Information Relay Service at 800-877-8339.

SUPPLEMENTARY INFORMATION: On February 23, 2015, we published a Federal Register notice (80 FR 9477) announcing the availability of the draft HCP and the draft EA for a 30-day review and comment period. We are providing interested parties another opportunity to review and comment on these documents by reopening the comment period for 30 days. We are reopening the comment period to correct a technical error with the electronic email box associated with the email address provided in our original Federal Register notice (80 FR 9477). The public could send comments to the Service's email address but we were not able to retrieve the comments for review; therefore the comments could not be considered and recognized as part of the record. Therefore, if you submitted comments via email to the previously provided address, please resubmit your comments to the new email address or by using any of the methods provided in the ADDRESSES section above.

For background and more information on the draft HCP and draft EA, see our February 23, 2015, notice. For information on where to view the documents and how to submit comments, please see the ADDRESSES section above.

Public Availability of Comments

All comments and materials we receive will become part of the public record associated with this action. Before including your address, phone number, email address, or other personally identifiable information in your comments, you should be aware that your entire comment—including your personally identifiable information—may be made publicly available at any time. While you can ask us in your comment to withhold your personally identifiable information from public review, we cannot guarantee that we will be able to do so. Comments and materials we receive, as well as supporting documentation we use in preparing the EA, will be available for public inspection by appointment, during normal business hours, at our Oregon Fish and Wildlife Office (see ADDRESSES).

Authority

We provide this notice in accordance with the requirements of section 10 of the ESA (16 U.S.C. 1531 et seq.), and NEPA (42 U.S.C. 4321 et seq.) and their implementing regulations (50 CFR 17.22 and 40 CFR 1506.6, respectively).

Dated: April 21, 2015.
Richard Hannan,
Deputy Regional Director, Pacific Region, U.S. Fish and Wildlife Service, Portland, Oregon.

[FR Doc. 2015-10980 Filed 5-6-15; 8:45 am]

BILLING CODE 4310-55-P